DEPARTMENT OF JUSTICE

Notice of Lodging of Proposed Consent Decree Under the Comprehensive Environmental Response, Compensation and Liability Act; the Clean Water Act; and the Oil Pollution Act

On June 10, 2019, the Department of Justice lodged a proposed Consent Decree with the United States District Court for the Western District of Washington in the lawsuit entitled United States, State of Washington, Suquamish Tribe, and Muckleshoot Indian Tribe v. Earle M. Jorgensen Company, Civil Action No. 19-cv-00907.

The proposed Consent Decree resolves claims alleged against the Defendant for natural resource damages caused by releases and discharges of hazardous substances and oil from its formerly owned and operated facility to the Lower Duwamish River in and near Seattle, Washington. The settlement requires Defendant to pay its equitable share of total natural resource damages estimated for the Lower Duwamish River, for purposes of early settlements, and assessment costs incurred by the Natural Resource Trustees. The Consent Decree requires Defendant to pay $1.3 million for natural resource damages and reimburse past assessment costs incurred by the Trustees totaling $75,538.96. The Defendant will receive a covenant not to sue under the Clean Water Act; the Oil Pollution Act; the Comprehensive Environmental Response, Compensation and Liability Act (“CERCLA”); and the State of Washington Model Toxics Control Act for natural resource damages caused by releases and discharges from its formerly owned and operated facility to the Lower Duwamish River.

The publication of this notice opens a period for public comment on the Consent Decree. Comments should be addressed to the Assistant Attorney General, Environment and Natural Resources Division, and should refer to United States, State of Washington, Suquamish Tribe, and Muckleshoot Indian Tribe v. Earle M. Jorgensen Company, D.J. Ref. No. 90-11-3-07227/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $8.00 (25 cents per page reproduction cost) payable to the United States Treasury.

Susan M. Akers,
Assistant Section Chief, Environmental Enforcement Section, Environment and Natural Resources Division.

[FR Doc. 2019-12673 Filed 6-14-19; 8:45 am]

BILLING CODE 4410-15-P